DEPARTMENT OF HEALTH AND HUMAN SERVICES

Centers for Disease Control and Prevention

Enhancing Healthcare Provider's Ability To Prevent Sexual Violence

Announcement Type: New.

Funding Opportunity Number: RFA 05040.

Catalog of Federal Domestic Assistance Number: 93.136.

Key Dates:

Letter of Intent Deadline: April 4, 2005.

Application Deadline: May 3, 2005.

I. Funding Opportunity Description

Authority: This program is authorized under section 391(a)(1) and (2) of the Public Health Service Act and, 42 U.S.C. 280b(a)(1) and (2) and Section 393 of the Public Health Service Act, 42 U.S.C. 280b-1a.

Background: The Centers for Disease Control and Prevention (CDC) is collaborating with its partners to better address sexual violence prevention within the health care sector. CDC and its partners have been discussing strategies for incorporating more of a health care focus into existing Sexual Assault Awareness Month (SAAM) activities. SAAM, held each year in April, is an opportunity to engage providers and raise awareness about the devastating effects of sexual violence. CDC is interested in a variety of topics, including the impact of sexual violence on public health, the role of health care providers, and the importance of prevention. The agency is in the process of creating a five-year strategic plan for how SAAM activities can be used as a catalyst for addressing sexual violence prevention in the health care sector. All recommended activities will complement those already developed by partner organizations for advocates and the general public.

Purpose: The Centers for Disease Control and Prevention (CDC) announces the availability of fiscal year (FY) 2005 cooperative agreement funds to expand the capacity of national professional organizations to address the topic of sexual violence prevention within their constituency of licensed healthcare providers.

The purpose of this funding is to support the creation of education and support materials that address sexual violence prevention within an organization that regularly provides professional development opportunities to its constituents. The products will foster the knowledge, skills, and abilities necessary for licensed healthcare providers to address sexual violence prevention in their practices.

Research suggests that sexual violence is characterized by risk and protective factors across multiple domains of influence, as represented by the ecological model presented in the World Report on Violence and Health (Krug, et al., 2002). The domains of influence include individual, relationship, community, and society. Sexual violence prevention activities include those that are aimed at addressing the domains of influence of potential victims, perpetrators, and bystanders.

Prevention strategies are often developed based upon the group for whom the intervention is intended. Using this type of differentiation, sexual violence interventions can again be divided into three categories:

• Approaches that are aimed at groups or the general population, regardless of each individual's risk for sexual violence perpetration or victimization (also called universal interventions). Groups can be defined geographically (e.g., entire school or school district) or by characteristics (e.g., ethnicity, age, gender).

• Approaches that are aimed at those who are thought to have a heightened risk for sexual violence perpetration or victimization are also referred to as selected interventions.

• Approaches that are aimed at those who have already perpetrated sexual violence or those who have been victimized are also called indicated interventions.

The specific purposes of this funding are to:

1. Provide an opportunity for national professional organizations to expand their leadership role in addressing the prevention of sexual violence by disseminating the key concepts of prevention, the ecological model, and prevention strategies to licensed healthcare providers within their membership. Strategies will be differentiated into universal, selected, or indicated categories. An emphasis should be placed on primary prevention and universal or selected strategies. Primary prevention activities involve stopping sexual violence victimization or perpetration before it occurs.

2. Conduct organizational assessments to determine understanding of the impact of sexual violence; the relationship to and distinction from domestic violence; knowledge of risk and protective factors; and comprehension of primary prevention by healthcare providers within their constituency.

3. Develop tools, educational materials, and/or training based upon information obtained from the organizational assessments. The products should emphasize the primary prevention of sexual violence (stopping the initial victimization or perpetration).

This program addresses the “Healthy People 2010” focus area of Injury and Violence Prevention.

Measurable outcomes of the program will be in alignment with the following performance goal for the National Center for Injury Prevention and Control (NCIPC): Increase the capacity of injury prevention and control programs to address the prevention of injuries and violence.

For the purposes of this program announcement the following definitions apply: Sexual violence: Sexual violence is “any sexual act, attempt to obtain a sexual act, unwanted sexual comments or advances, or acts to traffic, or otherwise directed, against a person's sexuality using coercion, by any person regardless of their relationship to the victim, in any setting, including but not limited to home and work (Krug et al., 2002).

Prevention: Population-based and/or environmental/system level services, policies and actions that prevent sexual violence from initially occurring. Prevention efforts work to modify and/or entirely eliminate the event, conditions, situations, or exposure to influences (risk factors) that result in the initiation of sexual violence and associated injuries, disabilities, and deaths. Additionally, prevention efforts seek to identify and enhance protective factors that may prevent sexual violence not only in at-risk populations but also in the community at large.

Intervention: Services, policies and actions provided after domestic violence or sexual violence has occurred and may have the advantageous effect of preventing a re-occurrence of violence.

Risk factor: Any factor that increases the likelihood that a person will experience sexual violence.

Protective factor: Any factor that decreases the likelihood that a person will experience sexual violence.

Providers: A person who is licensed to provide health or mental health care services. Examples include (but are not limited to) physicians, nurses, psychologists, and social workers.

This announcement is only for non-research activities supported by CDC/ATSDR. If research is proposed, the application will not be reviewed. For the definition of research, please see the CDC web site at the following Internet address: http://www.cdc.gov/od/ads/opspoll1.htm.

Activities: Awardee activities for this program are as follows:

1. Attend a two-day workshop on sexual violence prevention at CDC (Atlanta, GA) within two months of being funded.

2. Analyze recommendations for incorporating a health care focus into SAAM developed by experts working in the field of sexual violence prevention.

3. Research and demonstrate an understanding of the risk and protective factors associated with sexual violence victimization and perpetration.

4. Conduct assessments, with guidance and direction from CDC, to determine knowledge of sexual violence, including risk/protective factors and its impact on health; understanding of the relationship between sexual violence and domestic violence; and comprehension of prevention concepts by healthcare providers within their membership.

5. Develop and pilot test tools, educational materials, and/or training based upon information obtained from the organizational assessments. Obtain feedback from CDC and its partners. The tools, materials, and/or training should emphasize the primary prevention of sexual violence (stopping the initial victimization or perpetration).

6. Disseminate the tools, educational materials, and/or training to healthcare providers within their membership.

7. Evaluate the impact of the tools, educational materials, and/or training developed on provider behavior and clinical service delivery.

8. Collaborate with CDC on an ongoing basis to ensure consensus and uniformity related to core measures, tools, and processes, through conference calls and traveling to required meetings, including training sessions, evaluation meetings, and project updates.

9. Collaborate with CDC and its partners, including the National Sexual Violence Resource Center, on activities specifically related to SAAM.

10. Submit required reports to CDC as scheduled.

In a cooperative agreement, CDC staff is substantially involved in the program activities, above and beyond routine grant monitoring.

CDC Activities for this program are as follows:

1. Plan a two-day workshop on sexual violence prevention at CDC (Atlanta, GA) for recipients within two months of the award(s) being funded.

2. Provide relevant information related to the purpose and activities of this program announcement.

3. Facilitate communication with partners including, the National Sexual Violence Resource Center.

4. Provide technical assistance and consultation in the development and implementation of the assessment instruments.

5. Provide technical assistance and consultation in the development, pilot testing, and dissemination of the tools, educational materials, and/or training developed for healthcare providers.

6. Provide technical assistance and consultation in the evaluation of the impact of the tools, educational materials, and/or training developed for healthcare providers.

7. Participate in meetings and conference calls.

8. Monitor the recipient's performance of program activities and compliance with requirements.

II. Award Information

Type of Award: Cooperative Agreement. CDC involvement in this program is listed in the Activities Section above.

Fiscal Year Funds: 2005.

Approximate Total Funding: $100,000 (This amount is an estimate, and is subject to availability of funds.)

Approximate Number of Awards: One.

Anticipated Award Date: September 1, 2005.

Budget Period Length: 12 months.

Project Period Length: Two years.

Throughout the project period, CDC's commitment to continuation of awards will be conditioned on the availability of funds, evidence of satisfactory progress by the recipient (as documented in required reports), and the determination that continued funding is in the best interest of the Federal Government.

III. Eligibility Information

III.1. Eligible Applicants

Eligible applicants are national professional organizations that are non-profit and non-governmental. Eligible applicants must have memberships consisting of professional and licensed healthcare providers. The mission of eligible applicants should relate to enhancing the professional growth of its membership, creating and maintaining professional standards, and advancing clinical practice. CDC is working to develop and enhance the skills of healthcare providers to prevent sexual violence amongst their clients. The funding for this cooperative agreement is intended to support the development of toolkits, training activities and other educational materials for healthcare providers around the primary prevention of sexual violence.

Due to the short project period (two years), it is not possible for a constituency, or network of healthcare providers, to be developed. Eligible applicants should be professional organizations that are national in scope and already have a well-defined constituency of licensed healthcare providers. The term healthcare provider is broad and can apply to a variety of disciples (medicine, nursing, social work, psychology, etc.) Eligible applicants should also have a history of conducting professional development activities with their constituents and be in a position to influence healthcare practice. This infrastructure would allow eligible organizations to develop educational products and disseminate them effectively to their constituents.

For the reasons stated above, national professional organizations with a constituency of licensed healthcare providers are uniquely qualified to perform the tasks outlined in this cooperative agreement.

III.2. Cost Sharing or Matching

Matching funds are not required for this program.

III.3. Other

If you request a funding amount greater than the ceiling of the award range, your application will be considered non-responsive, and will not be entered into the review process. You will be notified that your application did not meet the submission requirements.

Special Requirements: If your application is incomplete or non-responsive to the special requirements listed in this section, it will not be entered into the review process. You will be notified that your application did not meet submission requirements.

• Late applications will be considered non-responsive. See section “IV.3. Submission Dates and Times” for more information on deadlines.

• The requested funding amount should not be greater than the ceiling amount of $100,000.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

Electronic Submission: CDC strongly encourages you to submit your application electronically by utilizing the forms and instructions posted for this announcement on www.Grants.gov, the official Federal agency wide E-grant Web site. Only applicants who apply online are permitted to forego paper copy submission of all application forms.

Paper Submission: Application forms and instructions are available on the CDC Web site, at the following Internet address: www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Letter of Intent (LOI): Your LOI must be written in the following format:

• Maximum number of pages: Two

• Font size: 12-point unreduced

• Single spaced

• Paper size: 8.5 by 11 inches

• Page margin size: One inch

• Printed only on one side of page

• Written in plain language, avoid jargon

Your LOI must contain the following information:

• Number and title of this program announcement

• Brief description of your organization

• Description of membership (number of members, requirements for membership)

• Brief description of previous or current organizational activities related to sexual violence or sexual violence prevention

Application: Electronic Submission: You may submit your application electronically at: www.grants.gov. Applications completed online through Grants.gov are considered formally submitted when the applicant organization's Authorizing Official electronically submits the application to www.grants.gov. Electronic applications will be considered as having met the deadline if the application has been submitted electronically by the applicant organization's Authorizing Official to Grants.gov on or before the deadline date and time.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

CDC recommends that you submit your application to Grants.gov early enough to resolve any unanticipated difficulties prior to the deadline. You may also submit a back-up paper submission of your application. Any such paper submission must be received in accordance with the requirements for timely submission detailed in Section IV.3. of the grant announcement. The paper submission must be clearly marked: “BACK-UP FOR ELECTRONIC SUBMISSION.” The paper submission must conform to all requirements for non-electronic submissions. If both electronic and back-up paper submissions are received by the deadline, the electronic version will be considered the official submission.

Paper Submission: If you plan to submit your application by hard copy, submit the original and two hard copies of your application by mail or express delivery service. Refer to section IV.6. Other Submission Requirements for submission address.

You must submit a project narrative with your application forms. The narrative must be submitted in the following format:

• Maximum number of pages: 25. If your narrative exceeds the page limit, only the first pages, which are within the page limit, will be reviewed.

• Font size: 12 point unreduced

• Double spaced

• Paper size: 8.5 by 11 inches

• Page margin size: One inch

• Printed only on one side of page

• Held together only by rubber bands or metal clips; not bound in any other way.

Your narrative should address activities to be conducted over the entire project period, and must include the following items in the order listed:

• Abstract (one-page summary of the application, does not count towards page limit)

• Relevant experience and expertise

• Plan to conduct an assessment of organizational membership (including objectives, methods, and timeline)

• Plan to develop tools, educational materials, and/or training for organizational membership (including objectives, methods, and timeline)

• Capacity and staffing

• Evaluation

• Measures of effectiveness

• Proposed budget and justification (does not count towards page limit)

Additional information may be included in the application appendices. The appendices will not be counted toward the narrative page limit. This additional information includes:

• Curriculum Vitaes and/or resumes

• Job descriptions

• Organizational charts

• Examples of tools, educational materials, and/or training activities developed by the organization related to health topics other than sexual violence

Letters of support

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt.htm.

If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: April 4, 2005.

CDC requests that you send a LOI if you intend to apply for this program. Although the LOI is not required, not binding, and does not enter into the review of your subsequent application, the LOI will be used to gauge the level of interest in this program, and to allow CDC to plan the application review.

Application Deadline Date: May 3, 2005.

Explanation of Deadlines: LOIs and Applications must be received in the CDC Procurement and Grants Office by 4 p.m. Eastern Time on the deadline date. If you submit your LOI or application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

This announcement is the definitive guide on LOI and application content, submission address, and deadline. It supersedes information provided in the application instructions. If your submission does not meet the deadline above, it will not be eligible for review, and will be discarded. You will be notified that you did not meet the submission requirements.

Electronic Submission:

If you submit your application electronically with Grants.gov, your application will be electronically time/date stamped which will serve as receipt of submission. In turn, you will receive an e-mail notice of receipt when CDC receives the application. All electronic applications must be submitted by 4 p.m. Eastern Time on the application due date.

Paper Submission:

CDC will not notify you upon receipt of your paper submission. If you have a question about the receipt of your LOI or application, first contact your courier. If you still have a question, contact the PGO-TIM staff at: 770-488-2700. Before calling, please wait two to three days after the submission deadline. This will allow time for submissions to be processed and logged.

IV.4. Intergovernmental Review of Applications

Executive Order 12372 does not apply to this program.

IV.5. Funding Restrictions

Restrictions, which must be taken into account while writing your budget, are as follows:

• Funds may not be used for research.

• Reimbursement of pre-award costs is not allowed.

• Budgets for program year one should include travel costs for staff to attend a two-day planning and training meeting in Atlanta, Georgia with CDC and relevant partners.

• Funding may not be used for construction.

• Funding may not be used to purchase computer equipment and software, and internet connection equipment and software.

• Funding may not be used to provide direct services to victims or perpetrators of sexual violence.

• Funding may not be used for tertiary prevention or indicated strategies/efforts.

If you are requesting indirect costs in your budget, you must include a copy of your indirect cost rate agreement. If your indirect cost rate is a provisional rate, the agreement should be less than 12 months of age.

Guidance for completing your budget can be found on the CDC web site, at the following Internet address: http://www.cdc.gov/od/pgo/funding/budgetguide.htm

IV.6. Other Submission Requirements

LOI Submission Address: Submit your LOI by express mail, delivery service, fax, or E-mail to: Jennifer Middlebrooks, Project Officer, 4770 Buford Highway, NE., Mailstop K-60, Atlanta GA 30341, Telephone: 770-488-4223, fax: 770-488-1360, e-mail: jdanielson@cdc.gov.

Application Submission Address:

Electronic Submission:

CDC strongly encourages applicants to submit electronically at: www.Grants.gov. You will be able to download a copy of the application package from www.Grants.gov, complete it offline, and then upload and submit the application via the Grants.gov site. E-mail submissions will not be accepted. If you are having technical difficulties in Grants.gov they can be reached by E-mail at http://www.support@grants.gov or by phone at 1-800-518-4726 (1-800-518-GRANTS). The Customer Support Center is open from 7 a.m. to 9 p.m. Eastern Time, Monday through Friday.

Paper Submission:

If you choose to submit a paper application, submit the original and two hard copies of your application by mail or express delivery service to: Technical Information Management-RFA 05040, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Relevant Experience (30 points)

a. Does the applicant demonstrate experience providing leadership to a well-defined constituency of licensed healthcare providers?

b. Does the applicant demonstrate experience in collecting and using organizational assessment data?

c. Does the applicant demonstrate experience developing tools, educational materials, and/or training around health topics, including but not limited to sexual violence?

2. Plan to Conduct Assessment (25 points)

a. Does the applicant include a detailed work plan, including a time-line for the first year?

b. Does the applicant provide clearly stated goals and corresponding objectives that are specific, measurable, attainable, realistic, and time-phased?

c. Does the applicant describe how the organizational assessments will be conducted?

3. Plan to Develop Tools, Educational Materials and/or Training (25 points)

a. Does the applicant include a detailed work plan, including a time-line for the first year?

b. Does the applicant provide clearly stated goals and corresponding objectives that are specific, measurable, attainable, realistic, and time-phased?

c. Does the applicant describe how the data from the organizational assessment will be integrated into the plan for developing tools, educational materials, and/or training?

d. Does the applicant describe how the plan for creating tools, educational materials, and/or training will be developed? Does the applicant describe collaboration with CDC and its partners? Does the applicant describe how the products will be pilot tested? Does the applicant describe options for dissemination of the products?

e. Does the applicant indicate a willingness to use primary prevention concepts (stopping initial victimization and perpetration)? Does the applicant indicate a willingness to use prevention strategies that are differentiated at the universal or selected level? Does the applicant make use of risk and protective factors? Does the applicant incorporate strategies that are aimed at addressing individual, relationship, community and societal factors, which are elements of the ecological model?

4. Capacity and Staffing (10 points)

a. Does the applicant demonstrate existing capacity, infrastructure, and evidence of leadership to carry out the required activities? Does the applicant demonstrate an ability to effectively manage and implement the required activities?

b. Does the applicant describe the responsibilities of individual staff members, including their level of effort and allocation of time?

c. Does the applicant describe project staff and their relevant skills and expertise for their assigned tasks relative to this announcement?

5. Evaluation (10 points)

a. Does the applicant provide a detailed description of the methods to be used to evaluate the project? This should include identification of baseline and follow-up measures.

6. Measures of Effectiveness (not scored)

Does the applicant provide objective/quantifiable measures regarding the intended outcomes that will demonstrate the accomplishment of the various identified objectives of the cooperative agreement?

7. Proposed Budget and Justification (not scored)

Does the applicant provide a detailed budget with complete line-item justification of all proposed costs consistent with the stated activities in the program announcement? Details must include a breakdown in the categories of personnel (with time allocations for each), staff travel, communications and postage, equipment, supplies, and any other costs? Does the budget projection include a narrative justification for all required costs? Any sources of additional funding beyond the amount stipulated in this cooperative agreement should be indicated, including donated time or services. For each expense category, the budget should indicate CDC share, the applicant share and any other support. These funds should not be used to supplant existing efforts.

V.2. Review and Selection Process

Applications will be reviewed for completeness by the Procurement and Grants Office (PGO) staff, and for responsiveness by National Center for Injury Prevention and Control (NCIPC) staff. Incomplete applications and applications that are non-responsive to the eligibility criteria will not advance through the review process. Applicants will be notified that their application did not meet submission requirements.

An objective review panel comprised of CDC employees will evaluate complete and responsive applications according to the criteria listed in the “V.1. Criteria” section above.

In addition, the following factors may affect the funding decision:

CDC seeks to fund organizations working with diverse types of healthcare providers. Therefore, two organizations working with the same or similar constituencies may not be funded.

CDC will provide justification for any decision to fund out of rank order.

V.3. Anticipated Announcement and Award Dates

Anticipated Announcement Date: September 1, 2005

Anticipated Award Date: September 1, 2005

VI. Award Administration Information

VI.1. Award Notices

Successful applicants will receive a Notice of Award (NOA) from the CDC Procurement and Grants Office. The NOA shall be the only binding, authorizing document between the recipient and CDC. The NOA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

An additional Certifications form from the PHS5161-1 application needs to be included in your Grants.gov electronic submission only. Refer to http://www.cdc.gov/od/pgo/funding/PHS5161-1-Certificates.pdf. Once the form is filled out attach it to your Grants.gov submission as Other Attachments Form.

The following additional requirements apply to this project:

• AR-10 Smoke-Free Workplace Requirements

• AR-11 Healthy People 2010

• AR-12 Lobbying Restrictions

• AR-13 Prohibition on Use of CDC Funds for Certain Gun Control Activities

• AR-15 Proof of Non-Profit Status

Additional information on these requirements can be found on the CDC Web site at the following Internet address: http://www.cdc.gov/od/pgo/funding/ARs.htm.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Annual progress report, due 90 days after the end of the budget period.

a. Current Budget Period Activities Objectives (for second six months of budget period.)

b. New Budget Period Program Proposed Activity Objectives (provides updated logic models and narratives.)

c. Measures of Effectiveness.

d. Additional Requested Information.

3. Financial status report no more than 90 days after the end of the budget period.

4. Final financial and performance reports, no more than 90 days after the end of the project period.

These reports must be mailed to the Grants Management or Contract Specialist listed in the “Agency Contacts” section of this announcement.

VII. Agency Contacts

We encourage inquiries concerning this announcement.

For general questions, contact: Technical Information Management Section, CDC Procurement and Grants Office, 2920 Brandywine Road, Atlanta, GA 30341, Telephone: 770-488-2700.

For program technical assistance, contact: Jennifer Middlebrooks, Project Officer, National Center for Injury Prevention and Control, 4770 Buford Highway, NE., Mailstop K-60, Atlanta, GA 30341, Telephone: 770-488-4233, E-mail: jdanielson@cdc.gov.

For financial, grants management, or budget assistance, contact: James Masone, Grants Management Specialist, CDC Procurement and Grants Office, 2920 Brandywine Road, Atlanta, GA 30341, Telephone: 770-488-2736, E-mail: zft2@cdc.gov.

VIII. Other Information

This and other CDC funding opportunity announcements can be found on the CDC Web site, Internet address: www.cdc.gov. Click on “Funding” then “Grants and Cooperative Agreements.”

William P. Nichols,
Director, Procurement and Grants Office, Centers for Disease Control and Prevention.

[FR Doc. 05-4247 Filed 3-3-05; 8:45 am]

BILLING CODE 4163-18-U